DEPARTMENT OF HEALTH AND HUMAN SERVICES

Substance Abuse and Mental Health Services Administration

Agency Information Collection Activities: Proposed Collection; Comment Request

In compliance with Section 3506(c)(2)(A) of the Paperwork Reduction Act of 1995 concerning opportunity for public comment on proposed collections of information, the Substance Abuse and Mental Health Services Administration (SAMHSA) will publish periodic summaries of proposed projects. To request more information on the proposed projects or to obtain a copy of the information collection plans, call the SAMHSA Reports Clearance Officer on (240) 276-1243.

Comments are invited on: (a) Whether the proposed collections of information are necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology.

Proposed Project: Cross-Site Evaluation of the Minority Substance Abuse/HIV Prevention Program (MAI)—(OMB No. 0930-0298)—Revision

The Substance Abuse and Mental Health Services Administration (SAMHSA), Center for Substance Abuse Prevention (CSAP) is requesting from the Office of Management and Budget (OMB) approval for the revision of data collection activities for the cross-site evaluation of the Minority Substance Abuse/HIV Prevention Program (MAI), which includes both youth and adult questionnaires. This revision includes the inclusion of 4 cohorts, substantial revisions to the youth and adult questionnaires, updates to the data used to estimate response rates and expected numbers of participants by service duration (see Table 1 below), and addition of two brief forms to collect dosage information. The current approval is under OMB No. 0930-0298, which expires on 2/29/16.

This cross-site evaluation supports two of SAMHSA's 6 Strategic Initiatives: Prevention of Substance Abuse and Mental Illness and Health Care and Health Systems Integration. It builds on evaluations of data collected by ten previous cohorts of grantees funded by SAMHSA's CSAP to provide substance abuse and HIV prevention services for minority populations. The first two cohorts were planning grant programs and the rest were service grant programs. The goals for the Cohort 3-10 grants were to add, increase, or enhance integrated substance abuse (SA) and HIV prevention services by providing supportive services and strengthening linkages between service providers for at-risk minority populations. Cohorts 1-3 previously received clearance under OMB No. 0930-0208 and Cohort 6—10 grants previously received clearance under OMB No. 0930-0298. Since neither the Cohort 4 nor Cohort 5 Programs were cross-site studies, they did not require OMB clearance. The grant period for Cohort 9 and 10 grants will end on 9/30/2015.

The cohorts of grantees funded by the MAI and included in this clearance request are:

• Minority Serving Institutions (MSI) in Partnerships with Community-Based Organizations (CBO): 29 three-year grants funded at the end of FY 2013 (MSI CBO 2013).

• Minority Serving Institutions (MSI) in Partnerships with Community-Based Organizations (CBO): 21 three-year grants funded at the end of FY 2014 (MSI CBO 2014).

• Minority Serving Institutions (MSI) in Partnerships with Community-Based Organizations (CBO): 34 three-year grants were funded in FY 2015 (MSI CBO 2015).

• Capacity Building Initiative (CBI): 54 five-year grants were funded in 2015 (CBI 2015).

MSI CBO grantees are Historically Black Colleges/Universities, Hispanic Serving Institutions, American Pacific Islander Serving Institutions, or Tribal Colleges/Universities in partnership with community based organizations in their surrounding communities. MSI CBO grantees are required to provide integrated substance abuse (SA), Hepatitis C (HCV), and HIV prevention services to young adults. The CBI grantees are community-level domestic, public and private nonprofit entities, federally recognized American Indian/Alaska Native Tribes and tribal organizations, and urban Indian organizations. CBI grantees will use grant funds for building a solid infrastructure for integrated SA, HIV, and HCV prevention service provision and implementing evidence-based prevention interventions using the SPF process. The target population for the CBI grantees will be at-risk minority adolescents and young adults. All MAI grantees are expected to provide leadership and coordination on the planning and implementation of SAMHSA's Strategic Prevention Framework (SPF) and to target minority populations, as well as other high risk groups residing in communities of color with high prevalence of SA and HIV/AIDS. The primary objectives of the cross-site evaluation are to:

• Assess the success of the MAI in reducing risk factors and increasing protective factors associated with the transmission of the Human Immunodeficiency Virus (HIV), Hepatitis C Virus (HCV) and other sexually-transmitted diseases (STD).

• Measure the effectiveness of evidence-based programs and infrastructure development activities such as: Outreach and training, mobilization of key stakeholders, substance abuse and HIV/AIDS counseling and education, testing, referrals to appropriate medical treatment and/or other intervention strategies (i.e., cultural enrichment activities, educational and vocational resources, social marketing campaigns, and computer-based curricula).

• Investigate intervention types and features that yield the best outcomes for specific population groups.

• Assess the extent to which access to health care was enhanced for population groups and individuals vulnerable to behavioral health disparities residing in communities targeted by funded interventions.

• Assess the process of adopting and implementing the Strategic Prevention Framework (SPF) with the target populations.

Continuing the cross-site evaluation will assist SAMHSA/CSAP in promoting and disseminating optimally effective prevention programs, counseling, health education, and referrals to appropriate medical treatment and/or other intervention strategies The MAI grantees are expected to provide an effective prevention process, direction, and a common set of goals, expectations, and accountabilities to be adapted and integrated at the community level. Grantees have substantial flexibility in choosing their individual evidence-based programs, but must base this selection on and build it into the five steps of the SPF. These SPF steps consist of assessing local needs, building service capacity specific to SA and HIV prevention services, developing a strategic prevention plan, implementing evidence-based interventions, and evaluating their outcomes. Grantees are also required to provide HIV and HCV testing and counseling services and referrals to appropriate treatment options. Grantees must also conduct ongoing monitoring and evaluation of their projects to assess program effectiveness including Federal reporting of the Government Performance and Results Act (GPRA) of 1993, The GPRA Modernization Act of 2010, SAMHSA/CSAP National Outcome Measures (NOMs), and the Department of Health and Human Services Core HIV Indicators.

As part of the cross-site evaluation, survey data will be collected through self-report questionnaires administered to program participants. All grantees will use two questionnaires, one for youth aged between 12 and 17 and one for adults aged 18 and older. Participants in services lasting 30 days or longer will complete all three sections of the questionnaires at three time points (baseline, exit, follow-up), taking an average of 37 (youth) or 32 (adult) minutes per survey. Participants in services lasting 2-29 days will complete the first two sections of the questionnaires at two time points (baseline, exit), taking an average of 26 (youth) or 23 (adult) minutes to complete each survey. Participants in single-day services will complete Section 1 and 3-5 items from Section 2 at one time point (at exit), taking an average of 13 minutes for both youth and adult questionnaires. The revised youth questionnaire contains 94 questions, of which 24 relate to HIV/AIDS and the revised adult questionnaire contains 79 items, 29 of which relate to HIV/AIDS. This represents a substantial reduction from the current OMB-approved versions of the Youth and Adult Questionnaires (128 and 122 items, respectively; OMB No. 0930-0298).

In addition to the shortened versions of the Youth and Adult Questionnaires, SAMHSA is requesting approval for two brief forms for collecting dosage data. Program staff will complete the Individual Dosage Form after each one-on-one service encounter with every participant to provide information on the types of services delivered during the encounter and the duration of each service type. The form takes approximately three minutes to complete. Program staff will complete the Group Dosage Form after each group-format service encounter to provide similar information, with the addition of a list of the unique identification numbers of all participants attending the session. A typical group session is expected to have approximately 20 attendees and a typical Group Dosage Form takes about eight minutes to complete.

Respondent burden and intrusiveness have been limited to the extent possible while providing sufficient power to fulfill the cross-site evaluation's objectives. Procedures such as the use of unique identification numbers in place of personal identification information, security measures at grant sites for limiting access to completed forms, and analysis guidelines that limit the reporting of outcome results for subgroups with small sample sizes, safeguard the privacy and confidentiality of participants. Every effort has been made to coordinate cross-site data collection with local data collection efforts in an attempt to minimize respondent burden.

The cross-site evaluation results will have significant implications for the substance abuse and HIV/AIDS prevention fields, the allocation of grant funds, and other evaluation activities conducted by multiple Federal, State, and local government agencies. They will be used to develop federal policy in support of SAMHSA/CSAP program initiatives, inform the public of program outcomes and lessons learned, improve existing programs, and promote replication and dissemination of effective prevention strategies.

Total Estimates of Annualized Hour Burden

The following table displays estimates of the annualized hour burden for data collection using the Youth and Adult Questionnaires and the Individual and Group Dosage Forms. The expected numbers of participants by service duration and the numbers of completed dosage forms were estimated based on analysis of the data submitted by Cohort 7-10 grantees. The numbers are adjusted for expected response rates, also estimated based on data analysis. Program staff will complete an Individual Dosage Form for each one-on-one service encounter with every participant, spending an estimated three minutes per form. A typical grantee is expected to complete 1,316 Individual Dosage Forms per year. A group Dosage Form will be completed for each group session held by the funded programs, and will take approximately eight minutes to complete. A typical grantee is expected to offer approximately 26 group sessions per year.

Table 1—Estimates of Annualized Hour Burden
Type of respondent activity | Number of respondents | Responses per respondent * | Total responses | Hours per response | Total burden hours
Youth Questionnaire/Single-day service duration | 64 | 1 | 64 | 0.2167 | 14
Youth Questionnaire/2-29-day service duration | 240 | 2 | 480 | 0.4333 | 208
Youth Questionnaire/30-or-more-day service duration | 1,136 | 2 | 2,158 | 0.6167 | 1,401
Adult Questionnaire/Single-day service duration | 1,040 | 1 | 1,040 | 0.2167 | 225
Adult Questionnaire/2-29-day service duration | 4,314 | 2 | 8,628 | 0.3833 | 3,307
Adult Questionnaire/30-or-more-day service duration | 19,150 | 2 | 38,300 | 0.5333 | 20,425
Individual Dosage Form | 138 | 1,316 | 181,608 | 0.0500 | 9,080
Group Dosage Form | 138 | 26 | 3,588 | 0.1333 | 478
Total | 26,220 |  | 235,980 |  | 35,139

Send comments to Summer King, SAMHSA Reports Clearance Officer, Room 2-1057, One Choke Cherry Road, Rockville, MD 20857 or email her a copy at summer.king@samhsa.hhs.gov. Written comments should be received by November 30, 2015.

Summer King,
Statistician.

[FR Doc. 2015-24811 Filed 9-29-15; 8:45 am]

BILLING CODE 4162-20-P